DEPARTMENT OF ENERGY

Federal Energy Regulatory Commission

[Docket No. RP03-36-003]

Dauphin Island Gathering Partners; Notice of Compliance Filing

August 6, 2003.

Take notice that on July 24, 2003, Dauphin Island Gathering Partners (Dauphin Island) tendered for filing as part of its FERC Gas Tariff, First Revised Volume No. 1, the tariff sheets listed below to become effective July 1, 2003:

Fourteenth Revised Sheet No. 9

Eleventh Revised Sheet No. 10

Dauphin Island states that these tariff sheets reflect changes to Maximum Daily Quantities (MDQ's) and the addition of one new shipper.

Dauphin Island states that copies of the filing are being served contemporaneously on all participants listed on the service list in this proceeding and on all persons who are required by the Commission's regulations to be served with the application initiating these proceedings.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: August 11, 2003.

Magalie R. Salas,
Secretary.

[FR Doc. 03-20624 Filed 8-12-03; 8:45 am]

BILLING CODE 6717-01-P